DEPARTMENT OF THE INTERIOR

Fish and Wildlife Service

Endangered Species Permit Applications

AGENCY: Fish and Wildlife Service, Interior.

ACTION: Notice of receipt of permit applications.

SUMMARY: The following applicants have applied for a scientific research permit to conduct certain activities with endangered species pursuant to section 10(a)(1)(A) of the Endangered Species Act of 1973, as amended (16 U.S.C. 1531 et seq.).

Permit No.: TE-006328

Applicant: Brian Drake, Nuevo, California

The applicant requests a permit amendment to take (harass by survey) the cactus ferruginous pygmy-owl (Glaucidium brasilianum cantorum) in conjunction with population monitoring throughout the species' range for the purpose of enhancing its survival.

Permit No.: TE-041668

Applicant: Cleveland National Forest, San Diego, Calfornia

The applicant requests a permit amendment to remove/reduce to possession Allium munzii (Munz's onion), Astragalus brauntonii (Braunton's milkvetch), Berberis nevinii (Nevin's barberry), Dodecahema leptoceras (slender-horned spineflower), and Poa atropurpurea (San Bernardino bluegrass) for voucher specimens on the Cleveland National Forest for the purpose of enhancing their survival. The applicant is currently authorized to take (capture) the arroyo southwestern toad (Bufo microscaphus californicus); take (harass by survey and monitor nests) the southwestern willow flycatcher (Empidonax traillii extimus); take (locate and monitor nests) the least Bell's vireo (Vireo bellii pusillus); and remove and reduce to possession the slender-horned spineflower (Dodecahema leptoceras) while conducting life history studies for the purpose of enhancing their survival under subpermit CLEVNF-4.

Permit No.: TE-047253

Applicant: Esther S. Rubin, Valley Center, California

The applicant requests a permit to take (harass) the Peninsular bighorn sheep (Ovis canadensis) in conjunction with ecological research at Anza Borrego State Park, California for the purpose of enhancing its survival.

Permit No.: TE-796835

Applicant: Thomas Kucera, San Rafael, California

The applicant requests a permit amendment to take (capture and mark) the Fresno kangaroo rat (Dipodomys nitratoides exilis) and Tipton kangaroo rat (Dipodomys nitratoides nitratoides) in conjunction with surveys throughout each species' range in California for the purpose of enhancing their survival.

Permit No.: TE-025732

Applicant: Samuel S. Sweet, Santa Barbara, California

The applicant requests a permit amendment to take (radio-track, harass by use of a thread-trailing device and use of television camera's in burrows) the California tiger salamander (Ambystoma californiense) in conjunction with ecological research in Santa Barbara County, California for the purpose of enhancing its survival.

Permit No.: TE-047805

Applicant: National Audubon Society, Honolulu, Hawaii

The applicant requests a permit to take (capture) short-tailed albatross (Phoebastria nigripes) in conjunction with research on an underwater setting chute on a Hawaii tuna longline vessel in Federal waters off the State of Hawaii for the purpose of enhancing its survival.

Permit No.: TE-047998

Applicant: Jeffrey S. Crain, Garden Grove, California

The applicant requests a permit to take (harass by survey, collect and sacrifice) the Conservancy fairy shrimp (Branchinecta conservatio), longhorn fairy shrimp (Branchinecta longiantenna), San Diego fairy shrimp (Branchinecta sandiegonensis), and the vernal pool tadpole shrimp (Lepidurus packardi) and take (survey by pursuit) the Quino checkerspot butterfly (Euphydryas editha quino) throughout each species' range in California and Oregon conjunction with surveys for the purpose of enhancing their survival.

DATES: Written comments on these permit applications must be received on or before November 5, 2001.

ADDRESSES: Written data or comments should be submitted to the Chief, Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Rowan W. Gould,
Acting Regional Director, Region 1, Portland, Oregon.

[FR Doc. 01-24875 Filed 10-3-01; 8:45 am]

BILLING CODE 4310-55-P